DEPARTMENT OF AGRICULTURE

Agricultural Research Service

Notice of Intent To Seek OMB Approval To Collect Information: Revision of a Form Pertaining to the Peer Review of ARS Research Projects

AGENCY: Agricultural Research Service (ARS), USDA.

ACTION: Notice and request for comments.

SUMMARY: The proposed revised form for the information collection requirement described below will be submitted to the Office of Management and Budget (OMB) for review, as required by the Paperwork Reduction Act of 1995 and OMB implementing regulations. The Department is soliciting public comments on the subject proposal.

DATES: Written comments on this notice must be received by July 9, 2010.

ADDRESSES: Address all comments concerning this notice to: Michael S. Strauss, Peer Review Program Coordinator, Office of Scientific Quality Review; Agricultural Research Agency, USDA; 5601 Sunnyside Avenue, Beltsville, Maryland; 20705; Phone: 301-504-3283; Fax: 301-504-1251.

FOR FURTHER INFORMATION CONTACT: Michael S. Strauss, 301-504-3283.

SUPPLEMENTARY INFORMATION: The Office of Scientific Quality Review will seek approval from OMB to revise one existing form so as to comply with new Transportation Security Administration information needs for travelers. All forms are transferred and received in an electronic storage format that does not include on-line access.

Abstract: The Office of Scientific Quality Review was established in September of 1999 as a result of the Agricultural Research, Extension, and Education Reform Act 1998 (“The Act”)(Pub. L. 105-185). The Act included mandates to perform scientific peer reviews of all research activities conducted by the USDA. The Office manages the ARS peer review system by centrally planning peer panel reviews for ARS research projects on a five-year cycle.

Each set of reviews is assigned a chairperson to govern the review process. The majority of the peer reviewers are non-ARS scientists. Peer review panels are convened to provide in-depth discussion and review of the research project plans. Each panel reviewer receives information on between 1 and 20 ARS research projects.

On average, 220 research projects are reviewed annually by an estimated 100 reviewers; whereby approximately 200 are reviewed by panel and approximately 20 are reviewed through an ad hoc process. The organization and management of this peer review system, particularly panel reviews, is highly dependent on the use of forms.

The Office of Scientific Quality Review will seek OMB approval of the revised Panelist Information Form- USDA uses this form to gather up-to-date background information about the reviewer, as well as information necessary for the payment of the honorarium and, where necessary, for arranging travel. This form requires an original signature. Because of the sensitive nature of information on this form it is not copied or stored in an electronic file. The copy received is held only in a single locked file and destroyed when no longer needed, and in accordance with the relevant Records Retention Policies and under conditions mandated by the Privacy Act. The revised form re-orders information requested so as to make clearer the purpose for each and adds a request for the respondent to indicate their gender, as required by the Transportation Security Administration.

Estimate of Burden: The burden is the minimum required to achieve program objectives. The overall information collection frequency is the minimum consistent with program objectives. Revision of this form neither increases nor decreases the already-approved burden for this information collection.

The Panelist Information Form takes about 20 minutes to complete. It resembles a typical request for personal information; many reviewers provide the same data as grant reviewers in other peer review programs. It also includes information necessary for arranging government-sponsored travel and for paying an honorarium, when needed.

Respondents and Estimated Number of Respondents: No change to the number of respondents is anticipated with this revision.

Frequency of Response: No change to the frequency of response is anticipated with this revision.

Estimated Total Annual Burden on Respondents: No change to the estimated total annual burden is anticipated with this revision.

Authority: The Paperwork Reduction Act of 1995, 44 U.S.C. chap. 35.

Comments: The Notice is soliciting comments from members of the public and affected agencies concerning revision of the form in the approved collection of information to: (1) Evaluate whether the proposed collection is necessary for the proper performance of ARS functions, including whether the information will have practical utility; (2) Evaluate the accuracy of the estimated burden from proposed collection of information; (3) Enhance the quality, utility, and clarity of the information to be collected; and (4) Minimize the burden of the collection of information on those who are to respond, including the use of appropriate automated collection techniques or other forms of information technology, e.g., permitting electronic submission of responses.

All responses to this notice will be summarized and included in the request for OMB approval.

All comments will become a matter of public record.

Dated: April 16, 2010.
Caird E. Rexroad, Jr.,
Associate Administrator for Operations and Management, Agricultural Research Service, USDA.

[FR Doc. 2010-10560 Filed 5-4-10; 8:45 am]

BILLING CODE 3410-03-P